DEPARTMENT OF LABOR

Employment and Training Administration

Workforce Investment Act: Indian and Native American Programs Under Section 166

AGENCY: Employment and Training Administration, Labor.

ACTION: Notice of proposed data collection.

SUMMARY: The Department of Labor, as part of its continuing effort to reduce paperwork and respondent burden, conducts a preclearance consultation process to provide the general public and Federal agencies with an opportunity to comment on proposed and/or continuing collections of information in accordance with the Paperwork Reduction Act of 1995 (PRA95) [44 U.S.C. 3506(c)(2)(A)]. This process helps to ensure that requested data can be provided in the desired format, reporting burdens are minimized, collection instruments are clearly understood, and the impact of collection requirements on respondents can be properly assessed. Currently, the Employment and Training Administration (ETA), in consultation with the Native American Employment and Training Council, is soliciting comments concerning the proposed institution of a “reporting and performance standards system for Indian and Native American programs under title I, section 166 of the Workforce Investment Act (WIA)”. A copy of the proposed information collection request (ICR) can be obtained by contacting the office listed below in the address section of this notice.

DATES: Written comments must be submitted to the office listed in the addressee section below on or before July 24, 2000.

ADDRESSES: James C. DeLuca, Chief, Division of Indian and Native American Programs, Employment and Training Administration, U.S. Department of Labor, Room N-4641, 200 Constitution Avenue, NW, Washington, DC 20210. Telephone: (202) 219-8502 ext 119(VOICE) or (202) 219-6338(FAX) (these are not toll-free numbers) or INTERNET: jdeluca@doleta.gov.

FOR FURTHER INFORMATION CONTACT: Copies of the information collection request are available for inspection in the Division of Indian and Native American Programs at the above address, and will be mailed to persons who request copies in writing from James C. DeLuca at the above address.

SUPPLEMENTARY INFORMATION:

I. Background

The Employment and Training Administration of the Department of Labor, in consultation with the Native American Employment and Training Council, is requesting approval of a new reporting and performance standards system for Workforce Investment Act (WIA) title I, section 166 Indian and Native American grantees for three program years (July 1, 2000 to June 30, 2003). In evaluating the last several years' reporting experience of the grantees who receive funding under JTPA section 401, including title II-B Summer Youth funds, and in light of the statutory requirements of WIA applicable to section 166 grantees, the Department has developed the following recommended reporting requirements which it believes supports the statutory requirements under WIA as they relate to the Indian and Native American Program.

II. Desired Focus of Comments

The Department of Labor is particularly interested in comments which:

• Evaluate whether the proposed collection of information is necessary for the proper performance of the functions of the agency, including whether the information will have practical utility;

• Evaluate the accuracy of the agency's burden estimate for the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Action

This proposed ICR will be used by approximately 150 Workforce Investment Act (WIA) section 166 grantees as the primary reporting and performance measurement vehicle for enrolled individuals, their characteristics, training and services provided, outcomes, including job placement and employability enhancements, as well as detailed financial data on program expenditures. Grantees participating in the demonstration under Public Law 102-477 will not be affected by this collection, and have not been included in the following burden estimates.

Type of Review: New.

Agency: Employment and Training Administration.

Title: Reporting and performance system for WIA title I, section 166 Indian and Native American grantees.

OMB Number: 1205-0NEW.

Catalog of Federal Domestic Assistance Number: 17.251 (this would replace similar Indian and Native American employment and training activities conducted under section 401 of the Job Training Partnership Act)

Record Keeping: Grantees shall retain supporting and other documents necessary for the compilation and submission of the subject reports for three years after submission of the final financial report for the grant in question [29 CFR 97.42 and/or 29 CFR 95.53].

Affected Public: Federally-recognized Indian tribes, bands, and groups; Alaska Native entities; Hawaiian Native entities; private non-profit Indian-controlled organizations; State Indian Commissions or Councils (Native American-controlled); consortia of any and/or all of the above.

Cite/Reference/Form/etc.: The collection instrument is the Indian and Native American Reporting and Performance System and related instructions. OMB-approved forms are provided for use in gathering information at the grantee field office level.

Total Respondents: 150.

Frequency: Quarterly for financial information; Semi-annually and annually for participation and characteristics information (for both the Comprehensive and Supplemental Youth Services programs).

Total Responses: 900 [For the Comprehensive Services program] (150 times 2, plus 150 times 4—possibly more) There are four statutorily-required quarterly financial status reports per grantee per year, by year of appropriation. For participation and characteristics information, there is one semi-annual and one annual submission per year, regardless of the year(s) of funding expended during the program year. There is only one format for the participation and characteristics report.

Total Responses: 690 [For the Supplemental Youth Services program] (115 recipients of Supplemental Youth Services funds times 2, 115 times four—possibly more). There are four statutorily-required quarterly financial status reports per grantee per year, by year of appropriation. For participation and characteristics information, there is one semi-annual and one annual submission per year, regardless of the year(s) of funding expended during the program year. There is only one format for the participation and characteristics report.

Average Time per Response: Financial Status Report (FSR)—7.75 hours; [ETA 9083] Participation and Characteristics Report (PCR) for the Comprehensive Services Program—9.67 hours; [ETA 9084] Participation and Characteristics Report (PCR) for the Supplemental Youth Services Program—9.67 hours [ETA 9085] The individual time per response varies widely depending on the degree of automation attained by individual grantees. Grantees also vary according to the numbers of individuals served in each program year. If the grantee has a fully-developed and automated MIS, the response time is limited to one-time programming plus processing time for each response. It is the Department's desire to see as many WIA section 166 grantees as possible become computerized, so that response time for reporting will eventually sift down to an irreducible minimum with an absolute minimum of human intervention.

Estimated Total Burden Hours: 13,340 (minimum)—1,590 total responses. (FSR: 1,060 responses times 7.75 hours = 8,215 burden hours). (PCR: 530 responses times 9.67 hours = 5,125 burden hours). The total of these two estimates yields a total estimate of at least 13,340 total burden hours per response cycle (one program year). The use of the term “minimum” refers to the fact that an individual grantee must continue to report on expenditures by year of appropriation until those funds are completely expended, or “zeroed out”. Thus, if more that one year's appropriation is expended in a given quarter, two (or more) FSRs must be submitted for that period, corresponding to the fund source(s) utilized.

Total Burden Cost (capital/startup): $-0-.

Total Burden Cost (operating/maintaining): $200,100 (13,340 total hours per response cycle times an estimated average wage of $15.00 per grantee staff hour). As noted, these costs will vary widely among grantees, from nearly no additional cost to some higher figure, depending on the state of automation attained by each grantee and the wages paid to the staff actually completing the various forms. All costs associated with the submission of these forms are allowable grant expenses.

Comments submitted in response to this comment request will be summarized and/or included in the request for Office of Management and Budget approval of the information collection request; they also will become a matter of public record.

Signed at Washington, DC, this 17th day of May, 2000.
Thomas M. Dowd,
Acting Director, Office of National Programs.

[FR Doc. 00-12936 Filed 5-22-00; 8:45 am]

BILLING CODE 4510-30-U